DEPARTMENT OF JUSTICE

Parole Commission

Sunshine Act Meeting

DATE AND TIME: Tuesday October 4, 2022, at 1 p.m.

PLACE: U.S. Parole Commission, 90 K Street NE, 3rd Floor, Washington, DC.

STATUS: Open.

MATTERS TO BE CONSIDERED:

1. Approval of April 2022 Quarterly Meeting minutes.

2. Verbal Pandemic Updates since October Quarterly Meeting from the Acting Chairman, Commissioner, Acting Chief of Staff/Case Operations Administrator, Case Services Administrator, Executive Officer, and General Counsel.

3. Vote on final rule to modify 28 CFR 2.86, Release on Parole, Recission for Misconduct.

5. Vote on final rule to modify 28 CFR 2.34, Rescission of Parole.

6. Wrap-up on jurisdiction over military offenders.

7. Status of Transfer Treaty cases.

8. Update on status of treatment programs (RSAT and Reentry and Sanctions Center Treatment Program).

CONTACT PERSON FOR MORE INFORMATION: Jacquelyn Graham, Staff Assistant to the Chairman, U.S. Parole Commission, 90 K Street NE, 3rd Floor, Washington, DC 20530, (202) 346-7010.

Dated: September 23, 2022.
Patricia K. Cushwa,
Chairman (Acting), U.S. Parole Commission.

[FR Doc. 2022-20986 Filed 9-23-22; 4:15 pm]

BILLING CODE 4410-31-P